DEPARTMENT OF HEALTH AND HUMAN SERVICES

Centers for Disease Control and Prevention

[RFA IP05-095]

Effectiveness of a Hospital-Based Program for Vaccination of Birth Mothers and Household Contacts With Inactivated Influenza Vaccine; Notice of Availability of Funds—Amendment

A notice announcing the availability of fiscal year (FY) 2006 funds for a cooperative agreement for Effectiveness of a Hospital-Based Program for Vaccination of Birth Mothers and Household Contacts with Inactivated Influenza Vaccine was published in the Federal Register, Thursday, May 12, 2005, Volume 70, Number 91, pages 25079-25084.

The notice is amended as follows: Page 25079, third column, Letter of Intent Deadline, delete June 13, 2005, and replace with August 15, 2005. Page 25079, third column, Application Deadline, delete June 27, 2005, and replace with August 31, 2005. Page 25080, third column, Fiscal Year Funds, delete 2005, and replace with 2006. Page 25080, third column, Anticipated Award Date, delete August 31, 2005, and replace with November 30, 2005. Page 25081, third column, LOI Deadline Date, delete June 13, 2005, and replace with August 15, 2005. Page 25081, third column, Application Deadline Date, delete June 27, 2005, and replace with August 31, 2005. Page 25083, second column, Anticipated Award Date, delete August 31, 2005, and replace with November 30, 2005.

Dated: June 2, 2005.
William P. Nichols,
Director, Procurement and Grants Office, Centers for Disease Control and Prevention.

[FR Doc. 05-11513 Filed 6-9-05; 8:45 am]

BILLING CODE 4163-18-P